Executive Order 13739 September 14, 2016

Termination of Emergency With Respect to the Situation in or in Relation to Côte d'Ivoire

By the authority vested in me as President by the Constitution and the laws of the United States of America, including the International Emergency Economic Powers Act (50 U.S.C. 1701 et seq.), the National Emergencies Act (50 U.S.C. 1601 et seq.) (NEA), section 5 of the United Nations Participation Act, as amended (22 U.S.C. 287c), and section 301 of title 3, United States Code,

I, BARACK OBAMA, President of the United States of America, find that the situation that gave rise to the declaration of a national emergency in Executive Order 13396 of February 7, 2006, with respect to the situation in or in relation to Côte d'Ivoire, including the massacre of large numbers of civilians, widespread human rights abuses, significant political violence and unrest, and attacks against international peacekeeping forces leading to fatalities, has been significantly altered by the progress achieved in the stabilization of Côte d'Ivoire, including the successful conduct of the October 2015 presidential election, progress on the management of arms and related materiel, and the combating of illicit trafficking of natural resources. Accordingly, and in view of the removal of multilateral sanctions by the United Nations Security Council in Resolution 2283, I hereby terminate the national emergency declared in Executive Order 13396, revoke that order, and further order:

Section 1. Pursuant to section 202(a) of the NEA (50 U.S.C. 1622(a)), termination of the national emergency declared in Executive Order 13396 shall not affect any action taken or proceeding pending not finally concluded or determined as of the date that this order is effective, any action or proceeding based on any act committed prior to such date, or any rights or duties that matured or penalties that were incurred prior to such date.

Sec. 2. This order is not intended to, and does not, create any right or benefit, substantive or procedural, enforceable at law or in equity by any party against the United States, its departments, agencies, or entities, its officers, employees, or agents, or any other person.

Sec. 3. This order is effective at 8:00 a.m. eastern daylight time on September 14, 2016.

THE WHITE HOUSE,

September 14, 2016.

[FR Doc. 2016-22454

Filed 9-15-16; 8:45 am]

Billing code 3295-F6-P